DEPARTMENT OF ENERGY

Federal Energy Regulatory Commission

Combined Notice of Filings #1

Take notice that the Commission received the following electric corporate filings:

Docket Numbers: EC14-144-000.

Applicants: Broken Bow Wind II, LLC.

Description: Joint Application for Order Authorizing Acquisition and Disposition of Jurisdictional Facilities Under Section 203 of the Federal Power Act Broken Bow Wind II, LLC, et al.

Filed Date: 9/15/14.

Accession Number: 20140915-5218.

Comments Due: 5 p.m. ET 10/6/14.

Take notice that the Commission received the following exempt wholesale generator filings:

Docket Numbers: EG14-104-000.

Applicants: Solar Star California XIII, LLC.

Description: Notice of Self-Certification of Exempt Wholesale Generator Status of Solar Star California XIII, LLC.

Filed Date: 9/15/14.

Accession Number: 20140915-5203.

Comments Due: 5 p.m. ET 10/6/14.

Take notice that the Commission received the following electric rate filings:

Docket Numbers: ER09-1224-007.

Applicants: Entergy Operating Companies.

Description: Entergy Operating Companies Service Schedule MSS-3 Bandwidth Formula Comprehensive Recalculation.

Filed Date: 9/15/14.

Accession Number: 20140915-5223.

Comments Due: 5 p.m. ET 10/6/14.

Docket Numbers: ER10-3184-002; ER10-2805-002; ER10-2564-004; ER10-2600-004; ER10-2289-004

Applicants: FortisUS Energy Corporation, Central Hudson Gas & Electric Corporation, Tucson Electric Power Company, UNS Electric, Inc., UniSource Energy Development Company.

Description: Notice of Non-Material Change in Status of FortisUS Energy Corporation, et al.

Filed Date: 9/15/14.

Accession Number: 20140915-5219.

Comments Due: 5 p.m. ET 10/6/14.

Docket Numbers: ER14-2882-000.

Applicants: The Empire District Electric Company.

Description: Compliance filing per 35: Revised Protocols to be effective 4/1/2015.

Filed Date: 9/15/14.

Accession Number: 20140915-5174.

Comments Due: 5 p.m. ET 10/6/14.

Docket Numbers: ER14-2883-000.

Applicants: PJM Interconnection, L.L.C.

Description: § 205(d) rate filing per 35.13(a)(2)(iii): Revisions to OATT Sched 6A Modify Black Start Comp and Add Black Start Backstop to be effective 11/15/2014.

Filed Date: 9/15/14.

Accession Number: 20140915-5175.

Comments Due: 5 p.m. ET 10/6/14.

Docket Numbers: ER14-2884-000.

Applicants: KCP&L Greater Missouri Operations Company.

Description: § 205(d) rate filing per 35.13(a)(2)(iii): Formula Rate Protocols Filing to be effective 3/1/2015.

Filed Date: 9/15/14.

Accession Number: 20140915-5176.

Comments Due: 5 p.m. ET 10/6/14.

Docket Numbers: ER14-2885-000.

Applicants: Seiling Wind Interconnection Services, LLC.

Description: Baseline eTariff Filing per 35.1: Seiling Interconnection, Seiling I and Seiling II Shared Facilities Agreement to be effective 10/1/2014.

Filed Date: 9/16/14.

Accession Number: 20140916-5056.

Comments Due: 5 p.m. ET 10/7/14.

Docket Numbers: ER14-2886-000.

Applicants: GDF SUEZ Energy Marketing NA, Inc.

Description: Request of GDF SUEZ Energy Marketing NA, Inc. for Limited Waiver of the ISO New England, Inc. Tariff.

Filed Date: 9/15/14.

Accession Number: 20140915-5224.

Comments Due: 5 p.m. ET 10/6/14.

Docket Numbers: ER14-2887-000.

Applicants: Southwest Power Pool, Inc.

Description: § 205(d) rate filing per 35.13(a)(2)(iii): Section 2.2 and Attachment F Revisions to be effective 12/1/2014.

Filed Date: 9/16/14.

Accession Number: 20140916-5093.

Comments Due: 5 p.m. ET 10/7/14.

Take notice that the Commission received the following electric reliability filings:

Docket Numbers: RD14-13-000.

Applicants: North American Electric Reliability Corporation.

Description: Petition of the North American Electric Reliability Corporation for Approval of Proposed Reliability Standard NUC-001-3.

Filed Date: 9/15/14.

Accession Number: 20140915-5206.

Comments Due: 5 p.m. ET 10/15/14.

Docket Numbers: RR14-7-000.

Applicants: North American Electric Reliability Corporation.

Description: Petition of the North American Electric Reliability Corporation for Approval of Amendments to Regional Reliability Standards Development Procedure of the Northeast Power Coordinating Council, Inc.

Filed Date: 9/15/14.

Accession Number: 20140915-5207.

Comments Due: 5 p.m. ET 10/6/14.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 16, 2014.
Nathaniel J. Davis, Sr.,
Deputy Secretary.

[FR Doc. 2014-22581 Filed 9-22-14; 8:45 am]

BILLING CODE 6717-01-P